ENVIRONMENTAL PROTECTION AGENCY

[EPA-HQ-OPP-2009-0308; FRL-10017-17]

Product Cancellation Order for Certain Pesticide Registrations of Tetrachlorvinphos

AGENCY: Environmental Protection Agency (EPA).

ACTION: Notice.

SUMMARY: This notice announces EPA's order for the cancellations, voluntarily requested by the registrant and accepted by the Agency, of the products listed in Table 1 of Unit II., pursuant to the Federal Insecticide, Fungicide, and Rodenticide Act (FIFRA). This cancellation order follows an August 6, 2020 Federal Register Notice of Receipt of Request from the registrant listed in Table 2 of Unit II. to voluntarily cancel these product registrations. In the August 6, 2020 notice, EPA indicated that it would issue an order implementing the cancellations, unless the Agency received substantive comments within the 30-day comment period that would merit its further review of these requests, or unless the registrant withdrew their request. The Agency did not receive any comments on the notice. Further, the registrant did not withdraw their request. Accordingly, EPA hereby issues in this notice a cancellation order granting the requested cancellations. Any distribution, sale, or use of the products subject to this cancellation order is permitted only in accordance with the terms of this order, including any existing stocks provisions.

DATES: The cancellations are effective December 30, 2020.

FOR FURTHER INFORMATION CONTACT: Patricia Biggio, Pesticide Re-Evaluation Division (7508P), Office of Pesticide Programs, Environmental Protection Agency, 1200 Pennsylvania Ave. NW, Washington, DC 20460-0001; telephone number: (703) 347-0547; email address: biggio.patricia@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2009-0308, is available at http://www.regulations.gov or at the Office of Pesticide Programs Regulatory Public Docket (OPP Docket) in the Environmental Protection Agency Docket Center (EPA/DC), West William Jefferson Clinton Bldg., Rm. 3334, 1301 Constitution Ave. NW, Washington, DC 20460-0001.

Due to public health concerns related to COVID-19, the EPA Docket Center (EPA/DC) and Reading Room is closed to visitors with limited exceptions. The staff continues to provide remote customer service via email, phone, and webform. For the latest status information on EPA/DC services and docket access, visit http://www.epa.gov/dockets.

II. What action is the Agency taking?

This notice announces the cancellation, as requested by the registrant, of products registered under FIFRA section 3 (7 U.S.C. 136a). These registrations are listed in sequence by registration number in Table 1 of this unit.

Table 1—Product Cancellations
EPA registration No. | Product name | Company name
2596-63 | Hartz 2 in 1 Plus Long Lasting Collar for Cats | The Hartz Mountain Corporation.
2596-78 | Hartz 2 in 1 Flea and Tick Powder for Cats | The Hartz Mountain Corporation.
2596-79 | Hartz 2 in 1 Flea and Tick Powder for Dogs | The Hartz Mountain Corporation.

Table 2 of this unit includes the name and address of record for the registrant of the products in Table 1 of this unit. The EPA company number corresponds to the first part of the EPA registration numbers of the products listed in Table 1 of this unit.

Table 2—Registrant of Cancelled Products
EPA company No. | Company name and address
2596 | The Hartz Mountain Corporation, 400 Plaza Drive, Seacaucus, NJ 07094.

III. Summary of Public Comments Received and Agency Response to Comments

During the 30-day public comment period provided, EPA received no comments in response to the August 6, 2020 Federal Register notice announcing the Agency's receipt of the request for voluntary cancellation of the products listed in Table 1 of Unit II.

IV. Cancellation Order

Pursuant to FIFRA section 6(f) (7 U.S.C. 136d(f)), EPA hereby approves the requested cancellation of the registrations identified in Table 1 of Unit II. Accordingly, the Agency hereby orders that the product registrations identified in Table 1 of Unit II. are canceled. The effective date of the cancellations that are the subject of this notice is December 30, 2020. Any distribution, sale, or use of existing stocks of the products identified in Table 1 of Unit II. in a manner inconsistent with any of the provisions for disposition of existing stocks set forth in Unit VI. will be a violation of FIFRA.

V. What is the Agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register of August 6, 2020 ((volume 85 number 152) (FRL-10012-80)). The comment period closed on September 8, 2020.

VI. Provisions for Disposition of Existing Stocks

Existing stocks are those stocks of registered pesticide products that are currently in the United States and that were packaged, labeled, and released for shipment prior to the effective date of the cancellation action. The existing stocks provisions for the products subject to this order are as follows.

Hartz may not “release for shipment,” as that term is defined by 40 CFR 152.3, any product under EPA Reg. Nos. 2596-78 and 2596-79 (dust products) as of December 30, 2020 and may not sell or distribute existing stocks of its dust products after March 31, 2021, except for export consistent with FIFRA section 17 (7 U.S.C. 136o) or for proper disposal. Hartz may sell or distribute existing stocks of EPA Reg. No. 2596-63 (cat collar) until exhausted.

Persons other than the registrants may sell, distribute, or use existing stocks of canceled products until supplies are exhausted, provided that such sale, distribution, or use is consistent with the terms of the previously approved labeling on, or that accompanied, the canceled products.

Authority: 7 U.S.C. 136 et seq.

Dated: November 19, 2020.
Mary Reaves,
Acting Director, Pesticide Re-Evaluation Division, Office of Pesticide Programs.

[FR Doc. 2020-28827 Filed 12-29-20; 8:45 am]

BILLING CODE 6560-50-P